SMALL BUSINESS ADMINISTRATION

[Declaration of Disaster #3306]

State of Michigan

Genesee County and the contiguous counties of Lapeer, Livingston, Oakland, Saginaw, Shiawassee, and Tuscola in the State of Michigan constitute a disaster area due to damages caused by heavy rains and flooding that occurred on September 22-23, 2000. Applications for loans for physical damage as a result of this disaster may be filed until the close of business on January 2, 2001 and for economic injury until the close of business on August 1, 2001 at the address listed below or other locally announced locations:

U.S. Small Business Administration, Disaster Area 2 Office, One Baltimore Place, Suite 300, Atlanta, GA 30308.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The numbers assigned to this disaster are 330606 for physical damage and 9J4600 for economic injury.

(Catalog of Federal Domestic Assistance Program Nos. 59002 and 59008.)
Dated: November 1, 2000.
Fred P. Hochberg,
Acting Administrator.

[FR Doc. 00-29762 Filed 11-20-00; 8:45 am]

BILLING CODE 8025-01-P